DEPARTMENT OF THE INTERIOR

Bureau of Land Management

[NV-025-1232-NX-NV19; Special Recreation Permit #NV-025-06-01]

Notice to the Public of Temporary Public Lands Closures and Prohibitions of Certain Activities on Public Lands Administered by the Bureau of Land Management, Winnemucca Field Office, NE

AGENCY: Bureau of Land Management, Interior.

ACTION: Notice of temporary closure.

SUMMARY: Notice is hereby given that certain lands located in northwestern Nevada partly within the Black Rock Desert-High Rock Canyon Emigrant Trails National Conservation Area will be temporarily closed or restricted and certain activities will be temporarily prohibited in and around the Burning Man event site administered by the BLM Winnemucca Field Office in Pershing County, Nevada.

The specified closures, restrictions and prohibitions are made in the interest of public safety at and around the public lands location of an event known as the Burning Man Festival. This event is authorized on public lands under a special recreation permit and is expected to attract approximately 37,000 participants this year.

In summary, these lands will be closed or restricted with regard to the following:

• August 11, 2006 through September 18, 2006 inclusive: Discharge of firearms, possession of weapons, waste water disposal, camping, and circumstances and procedures for eviction of persons from public lands.

• August 25, 2006 through September 4, 2006 inclusive: Aircraft landing, possession of fireworks, possession of alcohol by minors, vehicle use, and all public uses.

1. Public Closure Area: Within the Following Legally Described Locations

Mount Diablo Meridian

Unsurveyed T. 33 N., R. 24 E., secs. 1 and 2, portion west of the east playa road; sec. 3; sec. 4, portion east of County Rd. 34; sec. 5, E½, portion east of County Rd. 34; sec. 10, N½; sec. 11; E½, portion west of the east playa road.

Unsurveyed T. 33½ N., R. 24 E., secs. 25 and 26; sec. 28, portion east of the west playa road; sec. 33, portion east of County Rd. 34 and east of the west playa road; secs. 34, 35 and 36.

Unsurveyed T. 34 N., R. 24 E., sec. 34, S½, portion east of the west playa road; sec. 35, S½; sec. 36, S½.

T. 33 N., R. 25 E., sec. 4, Lots 3, 4 and 5; portions west of the east playa road.

Unsurveyed T. 34 N., R. 25 E., sec. 33, SW¼.

1.1. Between August 11, 2006 and September 18, 2006 Inclusive

1.1.1. Public Use

Public use is prohibited except as provided within the Event Area as described below.

1.1.2. Public Camping

Public camping is prohibited except as provided within the Event Area as described below.

1.1.3. Aircraft Landing

Aircraft are prohibited from landing, taking off, or taxiing. The following exceptions apply: Aircraft operations conducted through the authorized event landing strip and such ultralight and helicopter take-off and landing areas for Burning Man event staff and participants as may be included in the annual operation plan submitted by Black Rock City, LLC and approved by the authorized officer; and law enforcement, and emergency medical services aircraft such as Care Flight, Sheriff's Office, or Medical Ambulance Transport System helicopters engaged in official business may land in other locations when circumstances require it.

Note: The authorized event airstrip and adjacent designated ultra-light and helicopter landing areas are the only location where Burning Man event staff and participant aircraft may land or take off.

1.1.4. Possession of Alcohol

Possession of alcohol by minors is prohibited.

• The following are prohibited:

○ Consumption or possession of any alcoholic beverage by a person under 21 years of age on public lands.

○ Selling, offering to sell, or otherwise furnishing or supplying any alcoholic beverage to a person under 21 years of age on public lands.

• This section does not apply to the selling, handling, serving or transporting of alcoholic beverages by a person in the course of his lawful employment by a licensed manufacturer, wholesaler or retailer of alcoholic beverages.

1.1.5. Weapons

Discharge of firearms prohibited. Law enforcement officers acting in their official capacity are exempted from the prohibition.

1.1.6. Eviction of Persons from Public Closure Area

The permitted event area and all other parts of the public closure area are closed to any person who:

(a) Has been ordered by a BLM law enforcement officer, during the period of August 11th to September 18th, 2006, to leave the area of the permitted event.

(b) Has been evicted from the event by the permit holder, BRC LLC, whether or not such eviction was requested by BLM.

Any person located within the Public Closure Area, whether or not that person holds a ticket to attend, must immediately depart from the event if ordered to do so by a BLM law enforcement officer for good cause. Good cause includes, but is not limited to: repeated violations of any permit stipulations or regulations in Title 43 CFR; possession of prohibited weapons; or commission of an assault, fighting, threatening, menacing, or similar conduct that is likely to inflict injury or incite an immediate breach of the peace.

Possession of a ticket to attend the event does not authorize any person evicted from the event during the period of August 11 to September 18, 2006 to be present within the perimeter fence or anywhere else within the public closure area during those same dates.

1.1.7. Waste Water Discharge

Dumping wastewater (grey or black) is prohibited.

1.2. Between August 26, 2006 and September 4, 2006 Inclusive:

1.2.1. Public Camping

Public camping is prohibited. Burning Man event ticket holders and BLM-authorized event management-related camps within the event area as described below are exempt from the camping closure.

1.2.2. Motorized Vehicles

Motor vehicle use is prohibited. The following exceptions apply: Participant arrival and departure on designated routes; mutant vehicles registered with Burning Man; Black Rock City LLC staff and support; BLM, medical, law enforcement, and firefighting vehicles; and motorized skateboards or “Go Peds” with or without handlebars. Mutant vehicles must be registered with Burning Man/Black Rock City LLC and drivers must display evidence of registration at all times. Such registration must be displayed so that it is visible to the rear of the vehicle while it is in motion.

Vehicle use that creates a dust plume higher than the top of the vehicle is prohibited.

1.2.3. Fireworks

The use, sale or possession of personal fireworks within is prohibited.

The following exceptions apply: Uses of fireworks approved by Black Rock City LLC and used as part of an official Burning Man art burn event.

1.2.4. Fires

The ignition of fires on the surface of the Black Rock Playa without a burn blanket or burn pan is prohibited. The following exceptions apply: Licensed mutant vehicles, community burn platforms provided by Black Rock City LLC, and portable barbeques or grills.

2. Event Area: Within the Following Legally Described Locations

Mount Diablo Meridian

Unsurveyed T. 33 N., R. 24 E., secs. 1 and 2, portions within event perimeter fence, 50 yards outside the fence and the aircraft parking area; sec. 3; portion within event perimeter fence, 50 yards outside the fence and within 50 yards of the event entrance road.

Unsurveyed T. 33½ N., R. 24 E., secs. 25, 26 and 27, portions within event perimeter fence and 50 yards outside the fence; sec. 34, portions within event perimeter fence and 50 yards outside the fence; sec. 35; sec. 36, portions within event perimeter fence and 50 yards outside the fence.

Unsurveyed T. 34 N., R. 24 E., secs. 34, 35 and 36, portions within event perimeter fence and 50 yards outside the fence.

2.1. Between August 11, 2006 and August 25 and Between September 5th and September 18, 2006 Inclusive

2.1.1. Camping

Public camping is prohibited. Black Rock City LLC authorized staff, contractors, and others authorized to assist with construction or clean-up of art exhibits and theme camps are exempt from the camping closure.

2.2. Between August 26th and September 4th, 2006 Inclusive

2.2.1. Public Use

No person shall be present within the event area unless that person: Possesses a valid ticket to attend the event; is an employee with the BLM, a law enforcement agency, emergency medical service provider, fire protection provider, or another public agency working at the event and the employee is assigned to the event; or is a person working at or attending the event on behalf of the event organizers, BRC LLC.

2.2.2. Weapons

Possession of weapons is prohibited, subject to the following exceptions: County, state, tribal, and federal law enforcement personnel, or any person authorized by federal law to carry a concealed weapon.

“Weapon” means a firearm, compressed gas or spring powered pistol or rifle, bow and arrow, cross bow, blowgun, spear gun, hand thrown spear, sling shot, irritant gas device, explosive device or any other implement designed to discharge missiles, and includes any weapon the possession of which is prohibited by state law.

2.2.3. Public Camping

Public camping is prohibited. Burning Man event ticket holders who are camped in designated areas provided by Black Rock City LLC and ticket holders who are camped in the authorized “pilot camp” and BLM-authorized event management-related camps are exempt from the camping closure. Black Rock City LLC authorized staff, contractors, and other authorized participants are exempt from the camping closure.

DATES: August 11, 2006 to September 18, 2006.

FOR FURTHER INFORMATION CONTACT: Dave Cooper, National Conservation Area Manager, Bureau of Land Management, Winnemucca Field Office, 5100 E. Winnemucca Blvd., Winnemucca, NV 89445-2921, telephone: (775) 623-1500.

Authority: 43 CFR 8364.1.

Penalty: Any person failing to comply with the closure orders may be subject to imprisonment for not more than 12 months, or a fine in accordance with the applicable provisions of 18 U.S.C. 3571, or both.

Dated: July 10, 2006.
Gail G. Givens,
Field Manager.

[FR Doc. E6-14668 Filed 9-5-06; 8:45 am

BILLING CODE 4310-HC-P